FEDERAL ELECTION COMMISSION

Sunshine Act Meeting

Previously Announced Date and Time: Tuesday, July 15, 2003, 10 a.m. Meeting closed to the public. This meeting was cancelled.

Date and Time: Tuesday, July 22, 2003 at 10 a.m.

Place: 999 E Street, NW., Washington, DC.

Status: This meeting will be closed to the public.

Items to be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

* * * * *

Date and Time: Thursday, July 24, 2003 at 10 a.m.

Place: 999 E Street, NW., Washington, DC (Ninth Floor).

Status: This meeting will be open to the public.

Items to be Discussed: Correction and approval of minutes.

Final Rules and Explanation and Justification on Public Financing of Presidential Candidates and National Nominating Conventions.

Draft Advisory Opinion 2003-17: James W. Treffinger and Treffinger for Senate Committee by counsel, Karin Riecker.

Draft Advisory Opinion 2003-18: Bob Smith for U.S. Senate.

Routine Administrative Matters.

Person to Contact for Information: Mr. Ron Harris, Press Officer, Telephone: (202) 694-1220.

Mary W. Dove,
Secretary of the Commission.

[FR Doc. 03-18147 Filed 7-14-03; 2:34 pm]

BILLING CODE 6715-01-M